DEPARTMENT OF AGRICULTURE

Animal and Plant Health Inspection Service

[Docket No. APHIS-2016-0053]

Notice of Determination of the Highly Pathogenic Avian Influenza and Newcastle Disease Status of Japan

AGENCY: Animal and Plant Health Inspection Service, USDA.

ACTION: Notice.

SUMMARY: We are advising the public that we are recognizing Japan as being free of highly pathogenic avian influenza and Newcastle disease. This recognition is based on a risk evaluation we prepared and made available for public review and comment.

DATES: This change of disease status will be recognized on October 16, 2017.

FOR FURTHER INFORMATION CONTACT: Dr. Kelly Rhodes, Senior Staff Veterinarian, Regionalization Evaluation Services, National Import Export Services, VS, APHIS, USDA, 4700 River Road Unit 38, Riverdale, MD 20737-1231; Kelly.Rhodes@aphis.usda.gov; (301) 851-3315.

SUPPLEMENTARY INFORMATION: The regulations in 9 CFR part 94 (referred to below as the regulations) govern the importation of certain animals and animal products into the United States in order to prevent the introduction of various animal diseases, including highly pathogenic avian influenza (HPAI) and Newcastle disease. Within part 94, § 94.6 contains requirements governing the importation of carcasses, meat, parts or products of carcasses, and eggs (other than hatching eggs) of poultry, game birds, or other birds from regions where HPAI and Newcastle disease is considered to exist.

In accordance with § 94.6(a)(1)(i), the Animal and Plant Health Inspection Service (APHIS) maintains a list of regions in which Newcastle disease is not considered to exist. Paragraph (a)(1)(ii) states that APHIS will add a region to this list after it conducts an evaluation of the region and finds that Newcastle disease is not likely to be present in its commercial bird or poultry populations.

In accordance with § 94.6(a)(2)(i), APHIS maintains a list of regions in which HPAI is considered to exist. Paragraph (a)(2)(ii) states that APHIS will remove a region from this list only after it conducts an evaluation of the region and finds that HPAI is not likely to be present in its commercial bird or poultry populations.

In 9 CFR part 92, § 92.2 contains requirements for requesting the recognition of the animal health status of a region (as well as for the approval of the export of a particular type of animal or animal product to the United States from a foreign region). If, after review and evaluation of the information submitted in support of the request, APHIS believes the request can be safely granted, APHIS will make its evaluation available for public comment through a document published in the Federal Register.

In accordance with that process, we published a notice ¹ in the Federal Register on June 30, 2017 (82 FR 29822-29823, Docket No. APHIS-2016-0053) announcing the availability for review and comment of our evaluation of the HPAI and Newcastle disease status of Japan. Based on this evaluation, we determined that Japan is free of both HPAI and Newcastle disease.

¹ To view the notice, risk evaluation, environmental assessment, finding of no significant impact, and the comments we received, go to http://www.regulations.gov/#!docketDetail;D=APHIS-2016-0053.

We solicited comments on the notice for 30 days ending July 31, 2017. We received two comments by that date, both from private citizens. One commenter supported the action. The second commenter stated that our assessment did not seem to include the most recent occurrence of HPAI in Japan and requested that we explain why we made the determination that no HPAI has occurred when HPAI was reported in Japan in early 2017.

The risk evaluation that we made available for public review and comment explained that seven outbreaks of HPAI occurred in November and December of 2016, followed by five outbreaks from January through May 2017. The risk evaluation examined the biosecurity and surveillance measures that Japan employs to prevent and detect HPAI outbreaks, respectively. There was no evidence that HPAI virus is circulating in domestic poultry in Japan. Each HPAI outbreak appeared to be a point source introduction from infected wild birds, with no other epidemiological connections. These findings support our conclusion that Japan is free of HPAI. Although infection in migratory wild birds presents an ongoing risk of introduction, Japan has effective systems in place to detect and investigate potential HPAI outbreaks and a highly successful rapid response scheme.

Based on the evaluation and the reasons given in this document in response to comments, we are recognizing Japan as being free of HPAI and Newcastle disease and will add Japan to the Web-based list of regions in which Newcastle disease is not considered to exist and remove Japan from the web-based list of regions in which HPAI is considered to exist. These lists are available on the APHIS Web site at https://www.aphis.usda.gov/aphis/ourfocus/animalhealth/animal-and-animal-product-import-information/ct_animal_disease_status.

An environmental assessment (EA) and finding of no significant impact (FONSI) have been prepared for this action. Based on the FONSI, the Administrator of the Animal and Plant Health Inspection Service has determined that an environmental impact statement need not be prepared.

The EA and FONSI were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The EA and FONSI may be viewed on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained by writing to the individual listed under FOR FURTHER INFORMATION CONTACT.

Authority: 7 U.S.C. 450, 7701-7772, 7781-7786, and 8301-8317; 21 U.S.C. 136 and 136a; 31 U.S.C. 9701; 7 CFR 2.22, 2.80, and 371.4.

Done in Washington, DC, this 11th day of October 2017.
Michael C. Gregoire,
Acting Administrator, Animal and Plant Health Inspection Service.

[FR Doc. 2017-22382 Filed 10-13-17; 8:45 am]

BILLING CODE 3410-34-P